DEPARTMENT OF THE INTERIOR

Bureau Of Land Management

[NV-930-1430-FM; N-74701]

Esmeralda County, Nevada; Notice of Realty Action: Termination of Segregation; Nevada

AGENCY: Bureau of Land Management.

ACTION: Notice of termination of segregation.

SUMMARY: This notice terminates the segregative effect on land known as the Chiatovich Land Exchange and opens the land to operation under the public land laws and the mining laws.

EFFECTIVE DATE: February 12, 2003.

ADDRESSES: Written comments should be addressed to: Bureau of Land Management, William S. Fisher, Assistant Field Manager, Tonopah Field Station, Post Office Box 911, Tonopah, NV 89049-0911.

FOR FURTHER INFORMATION CONTACT: Wendy Barlow, Realty Specialist, at the above address or telephone (775) 482-7806.

SUPPLEMENTARY INFORMATION: Pursuant to the authority delegated by appendix 1 of Bureau of Land Management Manual 1203 dated November 25, 1998, that portion identified below as being part of the Chiatovich Exchange is hereby terminated in its entirety:

Mount Diablo Meridian, Nevada

Silver Peak

T. 2 S., R. 39 E.,

Sec. 15, S½SE¼;

Sec. 21, S½NE¼, SE¼;

Sec. 22, E½SE¼NE¼SW¼, N½NW¼NW¼SW¼, S½N½SW¼NW¼SW¼, S½SW¼NW¼SW¼, SE¼NW¼SW¼, N½SW¼SW¼, W½SW¼SW¼SW¼, (portion of) NE¼SW¼SW¼SW¼, (portion of) SE¼SW¼SW¼SW¼, E½E½SE¼SW¼, SE¼SW¼SW¼.

Containing 440.0 acres, more or less in Esmeralda County.

Goldfield

T. 2 S., R. 42 E.,

Sec. 35, E½NW¼, NE¼SW¼.

Containing 20.0 acres more or less in Esmeralda County.

Notation to the public land records effective on October 22, 2001, segregated the proposed exchange lands from all other forms of appropriation under the public land laws, including location under the United States mining laws and the mineral leasing laws. The exchange proposal has been withdrawn, therefore, is no longer needed. At 9 a.m. on February 12, 2003, the lands described above will be opened to location and entry under the United States mining laws, subject to valid existing rights, the provisions of existing withdrawals, other segregations of record, and the requirements of applicable law. Appropriation of lands under the general mining laws prior to the date and time of restoration is unauthorized. Any such attempted appropriation, including adverse possession under 30 U.S.C. 38, shall vest no rights against the United States. Acts required to establish a location and to initiate a right of possession are governed by State law where not in conflict with Federal law. The Bureau of Land Management will not intervene in disputes between rival locators over possessory rights since Congress has provided for such determinations in local courts.

Dated: November 13, 2002.
William S. Fisher,
Assistant Field Manager, Tonopah.

[FR Doc. 03-595 Filed 1-10-03; 8:45 am]

BILLING CODE 4310-HC-P